DEPARTMENT OF HEALTH AND HUMAN SERVICES

Centers for Disease Control and Prevention

[CDC-2020-0123]

Announcement and Request for comment on Non-Substantive Changes to Three Data Collections

AGENCY: Centers for Disease Control and Prevention (CDC), Department of Health and Human Services (HHS).

ACTION: Request for comment.

SUMMARY: The Centers for Disease Control and Prevention (CDC) in the Department of Health and Human Services (HHS) announces the opening of a public docket to obtain comment on non-substantive changes to three data collections conducted by CDC's National Center for Health Statistics (NCHS). Although CDC has already obtained approval from the Office of Management and Budget (OMB) under the Paperwork Reduction Act on these non-substantive changes, CDC is requesting public comment on these non-substantive changes.

DATES: Electronic or written comments must be received by February 16, 2021.

ADDRESSES: You may submit comments, identified by Docket No. CDC-2020-0123, by either of the following methods.

Note: CDC does not accept comments by email.

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name, Docket Number, and the OMB number associated with the survey about which comments are being provided. CDC will post, without change, all relevant comments to Regulations.gov.

Please note: Submit all comments through the Federal eRulemaking portal (regulations.gov) or by U.S. mail to the address listed above. Do not submit comments by email.

FOR FURTHER INFORMATION CONTACT: Jeffrey M. Zirger, Information Collection Review Office, Centers for Disease Control and Prevention, 1600 Clifton Road, NE, MS-D74, Atlanta, Georgia 30329; phone: 404-639-7570; Email: omb@cdc.gov.

SUPPLEMENTARY INFORMATION: With this notice, CDC is providing public notice regarding the addition of a small number of COVID-19 related questions to each of the following surveys National Ambulatory Medical Care Survey (NAMCS) OMB Control No. 0920-0278, National Electronic Health Records Survey (NEHRS) OMB Control No. 0920-1015, and National Hospital Care Survey (NHCS) OMB Control No. 0920-0212. These new questions are designed to provide information that is essential to CDC's emergency response to the outbreak of a novel coronavirus. Because these three OMB numbers are associated with ongoing, long-term collections, OMB requires that public comments be solicited to inform any adjustments to the wording of the questions or modification of the specific content of the COVID-19 related questions in future rounds of data collections.

National Ambulatory Medical Care Survey (NAMCS) (OMB Control No. 0920-0278, Exp. 05/31/2022)

NAMCS obtains nationally representative estimates on the provision of health care in physician offices and community health centers (CHCs).

NAMCS added a short block of questions related to COVID-19 in both (1) the traditional office-based Physician Induction Interview, and (2) the Community Health Center (CHC) Director Induction Interview to provide essential information on how the pandemic affected care provided in office based physician offices and CHCs. The five questions (some with sub-questions) added are presented below. No one respondent would answer all sub-questions. Since the interviewer has gained efficiency in the response options for the other non-COVID-19 questions, the additional five questions will be absorbed by the current estimated burden calculations. Therefore, no change in burden is expected.

NAMCS-1 Traditional Physician Induction Interview

Now I would like to ask you a few questions about the coronavirus disease (COVID-19) and the impact it had on operations in your office and on your staff.

During the past THREE months, how often did your office experience shortages of any of the following personal protective equipment due to the onset of the coronavirus disease (COVID-19) pandemic?

Respirators or other approved facemasks

Eye protection, isolation gowns, or gloves

During the past THREE months, did your office have the ability to test patients for coronavirus disease (COVID-19) infection?

During the past THREE months, how often did your office have a location where patients could be referred to for coronavirus disease (COVID-19) testing?

During the past THREE months, did your office need to turn away or refer elsewhere any patients with confirmed or presumptive positive coronavirus disease (COVID-19) infection?

During the past THREE months, did any of the following clinical care providers in your office test positive for coronavirus disease (COVID-19) infection?

Physicians

Physician assistants

Nurse practitioners

Certified nurse-midwives

Registered nurses/licensed practical nurses

Other clinical care providers

During January and February 2020, was your office using telemedicine or telehealth technologies (for example, audio with video, web videoconference) to assess, diagnose, monitor, or treat patients?

After February 2020, did your office's use of telemedicine or telehealth technologies to conduct patient visits increase?

After February 2020, how much has your office's use of telemedicine or telehealth technologies to conduct patient visits increased?

After February 2020, has your office started using telemedicine or telehealth technologies?

Since your office started using these technologies, how many of your patient visits have been conducted using telemedicine or telehealth technologies?

NAMCS-1 Community Health Center (CHC) Respondent Induction Interview

Now I would like to ask you a few questions about the coronavirus disease (COVID-19) and the impact it had on operations in your CHC and on your staff.

During the past THREE months, how often did your center experience shortages of any of the following personal protective equipment due to the onset of the coronavirus disease (COVID-19) pandemic?

Respirators or other approved facemasks

Eye protection, isolation gowns, or gloves

During the past THREE months, did your center have the ability to test patients for coronavirus disease (COVID-19) infection?

During the past THREE months, how often did your center experience shortages of coronavirus disease (COVID-19) tests for any patients who needed testing?

During the past THREE months how often did your center have a location where patients could be referred to for coronavirus disease (COVID-19) testing?

During the past THREE months, did your center need to turn away or refer elsewhere any patients with confirmed or presumptive positive coronavirus disease (COVID-19) infection?

During the past THREE months, did any of the following clinical care providers in your center test positive for coronavirus disease (COVID-19) infection?

Physicians

Physician assistants

Nurse practitioners

Certified nurse-midwives

Registered nurses/licensed practical nurses

Other clinical care providers

During January and February 2020, was your center using telemedicine or telehealth technologies (for example, audio with video, web videoconference) to assess, diagnose, monitor, or treat patients?

After February 2020, did your center's use of telemedicine or telehealth technologies to conduct patient visits increase?

After February 2020, how much has your center's use of telemedicine or telehealth technologies to conduct patient visits increased?

After February 2020, has your center started using telemedicine or telehealth technologies?

Since your center started using these technologies, how many of your patient visits have been conducted using telemedicine or telehealth technologies?

National Electronic Health Records Survey (NEHRS) (OMB Control No. 0920-1015, Exp. 12/31/2022)

NEHRS collects information on office-based physicians' adoption and use of electronic health record (EHR) systems, practice information, patient engagement, controlled substances prescribing practices, use of health information exchange (HIE), and the documentation and burden associated with medical record systems(which include both paper-based and EHR systems).

Six telemedicine technology questions to assess the use of telemedicine to provide clinical services to patients in response to the COVID-19 pandemic were added to NEHRS. The additional six questions will be absorbed by the current estimated burden calculations. Therefore, no change in burden is expected.

NEHRS Questions

Does your practice use telemedicine technology (e.g., audio, audio with video, web videoconference) for patient visits?

1. Since January 2020, what percentage of your patient visits were through telemedicine technology?

2. What type(s) of telemedicine tools did you use for patient visits?

3. What, if any, issues affected your use of telemedicine?

4. To what extent are you able to provide similar quality of care during telemedicine visits as you do during in-person visits?

5. Please rate your overall satisfaction with using telemedicine technology for patient visits.

6. Do you plan to continue using telemedicine visits (in addition to in-person visits) when appropriate once the COVID-19 pandemic is over?

National Hospital Care Survey (NHCS) (OMB Control No. 0920-0212, Exp. 03/31/2022)

NHCS collects information on inpatient hospital stays. The six questions related to COVID-19 were added to the NHCS Annual Hospital Interview were designed to provide insight into the impact of COVID-19 on the operations of hospital emergency departments (EDs) in the United States. These questions will ask about: (1) Shortages of COVID-19 tests, (2) creation of outside COVID-19 screening areas, (3) referrals for patients with confirmed or presumptive positive COVID-19 infection, (4) clinical care providers at the responding hospital testing positive for COVID-19, (5) the number of inpatient/emergency department ED visits for the year that were related to confirmed COVID-19, and (6) the number of inpatient/ED visits for the year that were related to presumptive positive COVID-19. The additional data collected from these questions only posed a minimal burden on respondents; and was absorbed in the OMB burden previously approved.

NHCS Questions:

1. In the past year, did your hospital experience shortages of coronavirus disease (COVID-19) tests for any patients with presumptive positive COVID-19 infection?

2. In the past year, did your hospital create areas outside the hospital entrance to screen patients for coronavirus disease (COVID-19) infection?

3. In the past year, did your hospital need to turn away or refer elsewhere any patients with confirmed or presumptive positive coronavirus disease (COVID-19) infection?

4. In the past year, did any of the following clinical care providers in your hospital test positive for coronavirus disease (COVID-19) infection?

a. Physicians

b. Physician assistants

c. Nurse practitioners

d. Certified nurse-midwives

e. Registered nurses/licensed practical nurses

f. Other clinical care providers

5. For calendar year 2020, how many inpatient/ED visits at your hospital were related to CONFIRMED coronavirus disease (COVID-19) infections, by quarter or by year? Fill in the grid below.

6. For calendar year 2020, how many inpatient/ED visits at your hospital were Confirmed COVID-19 visits and how many were Presumptive Positive COVID-19 visits by quarter or by year?

Dated: December 14, 2020.
Jeffrey M. Zirger,
Lead, Information Collection Review Office, Office of Scientific Integrity, Office of Science, Centers for Disease Control and Prevention.

[FR Doc. 2020-27820 Filed 12-17-20; 8:45 am]

BILLING CODE 4163-19-P